DEPARTMENT OF COMMERCE

National Oceanic and Atmospheric Administration

RIN 0648-XE550

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The NMFS Assistant Regional Administrator for Sustainable Fisheries, Greater Atlantic Region, has made a preliminary determination that an exempted fishing permit application contains all of the required information and warrants further consideration. This exempted fishing permit would allow a commercial lobster fishing vessel in collaboration with the University of New England to conduct research on the injury and mortality of Atlantic cod caught as bycatch in lobster traps fished in the Gulf of Maine.

Regulations under the Magnuson-Stevens Fishery Conservation and Management Act require publication of this notification to provide interested parties the opportunity to comment on applications for a proposed exempted fishing permit.

DATES: Comments must be received on or before April 22, 2016.

ADDRESSES: You may submit written comments by any of the following methods:

• Email: NMFS.GAR.EFP@noaa.gov. Include in the subject line “Comments on 2016 UNE Atlantic Cod Bycatch from Lobster Traps EFP.”

• Mail: John K. Bullard, Regional Administrator, NMFS, Greater Atlantic Regional Office, 55 Great Republic Drive, Gloucester, MA 01930. Mark the outside of the envelope “2016 UNE Atlantic Cod Bycatch from Lobster Traps EFP.”

FOR FURTHER INFORMATION CONTACT: Reid Lichwell, Fishery Management Specialist, (978) 282-9112.

SUPPLEMENTARY INFORMATION: The University of New England (UNE) submitted a complete application for an Exempted Fishing Permit (EFP) to assess injury and mortality of cod caught as bycatch in lobster traps fished in the Gulf of Maine (GOM). This EFP would exempt a commercial lobster fishing vessel from the prohibition on landing Northeast (NE) multispecies established under the Northeast Multispecies Fishery Management Plan (FMP) at 50 CFR 648.14(k)(1)(i)(B). The vessel would also be exempt from the possession limits and minimum size requirements specified in 50 CFR part 648, subparts B and D through O. The exemption from the prohibition on landing NE multispecies would allow the vessel to retain cod to evaluate injuries resulting from their catch. The possession limit and minimum size requirement exemptions would allow the vessel's crew to tag cod with acoustic transmitters and collect biological data before cod and other bycaught species are returned to sea. The EFP would allow these exemptions from May through October 2016. The data from this study are designed to provide fisheries managers information on cod discard mortality associated with the GOM lobster fishery. The NMFS Bycatch Reduction Engineering program funds this project.

If the EFP is approved, the participating lobster vessel would deploy 400 traps in statistical area 513. Lobster traps would be hauled twice a week for 24 weeks, with a soak time of approximately 48-72 hours for each trip. The crew of the vessel would collect viability data for cod bycatch as outlined in the research proposal. A subsample (n = 100) of cod would be tagged with acoustic transmitters and released. The tagged cod would be monitored by an array of 30 acoustic receivers to evaluate acute and delayed mortality in their natural environment. Approximately 10 cod would be retained and landed each month to assess barotrauma and other physical effects of their capture. UNE research staff would accompany each trip in which cod are tagged or retained as part of the study. The vessel will retain the previously mentioned 10 cod per sampling month and all legal lobsters will be retained and sold. All other animals captured in the traps would be returned to the sea as soon as possible.

If approved, the applicants may request minor modifications and extensions to the EFP throughout the year. EFP modifications and extensions may be granted without further notice if they are deemed essential to facilitate completion of the proposed research and have minimal impacts that do not change the scope of the initially approved EFP request. Any fishing activity conducted outside the scope of the exempted fishing activity would be prohibited.

Authority: 16 U.S.C. 1801 et seq.

Dated: April 4, 2016.
Emily H. Menashes,
Acting Director, Office of Sustainable Fisheries, National Marine Fisheries Service.

[FR Doc. 2016-07984 Filed 4-6-16; 8:45 am]

BILLING CODE 3510-22-P